DEPARTMENT OF DEFENSE

Office of the Secretary of Defense

Renewal of Department of Defense Federal Advisory Committees

AGENCY: DoD.

ACTION: Renewal of Federal Advisory Committee.

SUMMARY: Under the provisions of the Federal Advisory Committee Act of 1972, (5 U.S.C. Appendix, as amended), the Government in the Sunshine Act of 1976 (5 U.S.C. 552b, as amended), and 41 CFR 102-3.65, the Department of Defense gives notice that it is renewing the charter for the Advisory Council on Dependents' Education (hereafter referred to as the Council).

The Council is a non-discretionary federal advisory committee established by the Under Secretary of Defense for Personnel and Readiness to provide the Department of Defense and the DoD's overseas dependent schools independent advice and recommendations on general policies for the operation of the DoD overseas school system, provided information and insights from the Department of Education regarding educational programs and practices found to be effective, and advised the Director, DoDEA on the various studies and surveys conducted by and about DoDEA. The Council, in accomplishing its mission: (a) Improved the High School Initiative, a 5-year program objective to improve system-wide academic consistency; (b) improved the Special Education Initiative, a program objective to enhance services provided to DoD overseas school system students with special needs; (c) enhanced school counseling services, especially in military communities with high forward deployment rates; and (d) provided invaluable insights into effects on DoD dependent students and CONUS local educational authorities of the impending Global Defense Posture Realignment (GDPR) and the Base Realignment and Closure (BRAC) commission decisions.

The Council shall be composed of not more than 16 members, who have demonstrated an interest in the field of primary or secondary education. Council members appointed by the Secretary of Defense, who are not federal officers or employees, shall serve as Special Government Employees under the authority of 5 U.S.C. 3109. Council members shall be appointed on an annual basis by the Secretary of Defense. In addition, the Secretary of Defense and the Secretary of Education or their designated representative shall serve as the Council's co-chair.

Individuals appointed to the Council from professional employee organizations shall be individuals designated by those organizations. Council members and consultants, if required, shall be entitled to compensation at the daily equivalent of the rate specified at the time of such service for level IV of the Executive Services under 5 U.S.C. 5315. Council members shall be entitled to compensation for travel and per diem for official travel.

The Council shall be authorized to establish subcommittees, as necessary and consistent with its mission, and these subcommittees or working groups shall operate under the provisions of the Federal Advisory Committee Act of 1972, the Government in the Sunshine Act of 1976, and other appropriate federal regulations.

Such subcommittees or workgroups shall not work independently of the chartered Council, and shall report all their recommendations and advice to the Council for full deliberation and discussion. Subcommittees or workgroups have no authority to make decisions on behalf of the chartered Council nor can they report directly to the Department of Defense or any federal officers or employees who are not Council members.

SUPPLEMENTARY INFORMATION: The Council shall meet at the call of the Council's Designated Federal Officer, in consultation with the Council's chairperson. The Designated Federal Officer, pursuant to DoD policy, shall be a full-time or permanent part-time DoD employee, and shall be appointed in accordance with established DoD policies and procedures. The Designated Federal Officer or duly appointed Alternate Designated Federal Officer shall attend all committee meetings and subcommittee meetings.

Pursuant to 41 CFR 102-3.105(j) and 102-3.140, the public or interested organizations may submit written statements to the Advisory Council on Dependents' Education membership about the Council's mission and functions. Written statements may be submitted at any time or in response to the stated agenda of planned meeting of the Advisory Council on Dependents' Education.

All written statements shall be submitted to the Designated Federal Officer for the Advisory Council on Dependents' Education, and this individual will ensure that the written statements are provided to the membership for their consideration. Contact information for the Advisory Council on Dependents' Education's Designated Federal Officer can be obtained from the GSA's FACA Database— https://www.fido.gov/facadatabase/public.asp.

The Designated Federal Officer, pursuant to 41 CFR 102-3.150, will announce planned meetings of the Advisory Council on Dependents' Education. The Designated Federal Officer, at that time, may provide additional guidance on the submission of written statements that are in response to the stated agenda for the planned meeting in question.

FOR FURTHER INFORMATION CONTACT: Jim Freeman, Deputy Committee Management Officer for the Department of Defense, 703-601-2554, extension 128.

Dated: February 19, 2008.
L.M. Bynum,
Alternate OSD Federal Register Liaison Officer, Department of Defense.

[FR Doc. E8-3485 Filed 2-25-08; 8:45 am]

BILLING CODE 5001-06-P